DEPARTMENT OF THE INTERIOR

National Park Service

[NPS-SERO-NCPTT-20489; PPWOCRADTI-PCU00PT14.GT0000]

Notice of April 20-21, 2016, Meeting of the Preservation Technology and Training Board

AGENCY: National Park Service, Interior.

ACTION: Meeting notice.

SUMMARY: Notice is hereby given in accordance with the Federal Advisory Committee Act (FACA) (5 U.S.C. Appendix 1-16), that the Preservation Technology and Training Board (PTT Board) of the National Center for Preservation Technology and Training (NCPTT), National Park Service, will meet on April 20, 2016, and April 21, 2016, at Ball State University in Muncie, Indiana.

The PTT Board's meeting agenda will include: Review and comment on the NCPTT FY 2015 accomplishments, and operational priorities for FY 2016; FY 2015 and FY 2016 NCPTT budget and initiatives; recent research; and training programs.

DATES: Wednesday, April 20, 2016, 9:00 a.m. to 5:00 p.m. (CDT) and Thursday, April 21, 2016, 9:00 a.m. to 12:00 p.m. (CDT) in Muncie, Indiana.

ADDRESSES: The meeting location on Wednesday, April 20, 2016: Ball State University, L.A. Pittenger Student Center, Forum Room, 2nd Floor, Muncie, Indiana 47306. The meeting location on Thursday, April 21, 2016: Ball State University, Bracken Library, Room 215, 2nd Floor, Muncie, Indiana 47306.

FOR FURTHER INFORMATION CONTACT: Persons wishing more information concerning this meeting, or who wish to submit written statements, may contact: Kirk A. Cordell, Executive Director, National Center for Preservation Technology and Training, National Park Service, U.S. Department of the Interior, 645 University Parkway, Natchitoches, LA 71457, telephone (318) 356-7444 or via email kirk_cordell@nps.gov. In addition to U.S. mail or commercial delivery, written comments may be sent by fax to Mr. Cordell at (318) 356-9119.

SUPPLEMENTARY INFORMATION: The PTT Board was established by Congress to provide leadership, policy advice, and professional oversight to the NCPTT in compliance with Section 404 of the National Historic Preservation Act of 1966, as amended, (54 U.S.C. 305303).

The PTT Board meeting is open to the public. Facilities and space for accommodating members of the public are limited; however, visitors will be accommodated on a first-come, first-served basis. Any member of the public may file a written statement concerning any of the matters to be discussed by the PTT Board.

Before including your address, telephone number, email address, or other personal identifying information in your comment, you should be aware that your entire comment—including your personal identifying information—may be made publicly available at any time. While you may ask us in your comment to withhold your personal identifying information from public review, we cannot guarantee that we will be able to do so.

Minutes of the meeting will be available for public inspection no later than 90 days after the meeting at the office of the Executive Director, National Center for Preservation Technology and Training, National Park Service, U.S. Department of the Interior, 645 University Parkway, Natchitoches, LA 71457, telephone (318) 356-7444.

Dated: March 21, 2016.
Alma Ripps,
Chief, Office of Policy.

[FR Doc. 2016-06846 Filed 3-24-16; 8:45 am]

BILLING CODE 4310-EE-P